DEPARTMENT OF TRANSPORTATION

Federal Aviation Administration

Advisory Circular (AC) 23-15A, Small Airplane Certification Compliance Program

AGENCY: Federal Aviation Administration, DOT.

ACTION: Notice of issuance of advisory circular.

SUMMARY: This notice announces the issuance of Advisory Circular (AC) 23-15A. The AC provides a compilation of historically acceptable means of compliance to specifically selected sections of 14 CFR part 23 for small, simple, low performance airplanes. This revision adds a definition of small, simple, low performance airplanes, and clarifies the applicability of the AC. Additionally, information was updated and clarified in numerous sections. Some of the sections that had significant changes are:

• Emergency landing dynamic conditions.

• Flutter.

• Proof of strength.

• Fire protection of flight controls and engine mounts.

• Lightning protection.

• Figures recreated to improve legibility.

DATES: Advisory Circular 23-15A was issued by the Manager of the Small Airplane Directorate on December 30, 2003.

How to Obtain Copies: A paper copy of AC 23-15A may be obtained by writing to the U.S. Department of Transportation, Subsequent Distribution Office, DOT Warehouse, SVC-121.23, Ardmore East Business Center, 3341Q 75th Avenue, Landover, MD 20785, telephone 301-322-5377, or by faxing your request to the warehouse at 301-386-5394. The AC will also be available on the Internet at http://www.faa.gov/certification/aircraft/.

Issued in Kansas City, Missouri, on January 13, 2004.
Dorenda D. Baker,
Manager, Small Airplane Directorate, Aircraft Certification Service.

[FR Doc. 04-6148 Filed 3-18-04; 8:45 am]

BILLING CODE 4910-13-P